DEPARTMENT OF TRANSPORTATION

Federal Aviation Administration

14 CFR Part 39

[Docket No. 2001-NM-132-AD; Amendment 39-12586; AD 2001-26-20]

RIN 2120-AA64

Airworthiness Directives; Airbus Model A319, A320, and A321 Series Airplanes

AGENCY: Federal Aviation Administration, DOT.

ACTION: Final rule.

SUMMARY: This amendment adopts a new airworthiness directive (AD), applicable to certain Airbus Model A319, A320, and A321 series airplanes, that requires a one-time inspection of the forward and aft lower bogies of the left- and right-hand sliding windows of the flightcrew compartment for the presence of a lock pin. If the lock pin is missing, this amendment requires corrective action. This action is necessary to prevent the inability of the flightcrew to open the left- or right-hand sliding window for evacuation in an emergency, due to a window jamming in the closed position. This action is intended to address the identified unsafe condition.

DATES: Effective February 8, 2002.

The incorporation by reference of certain publications listed in the regulations is approved by the Director of the Federal Register as of February 8, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: A proposal to amend part 39 of the Federal Aviation Regulations (14 CFR part 39) to include an airworthiness directive (AD) that is applicable to certain Airbus Model A319, A320, and A321 series airplanes was published in the Federal Register on October 26, 2001 (66 FR 54173). That action proposed to require a one-time inspection of the forward and aft lower bogies of the left- and right-hand sliding windows of the flightcrew compartment for the presence of a lock pin. If the lock pin is missing, that action also proposed to require corrective action.

Comments

Interested persons have been afforded an opportunity to participate in the making of this amendment. Due consideration has been given to the single comment received.

Request To Allow Credit for Previously Accomplished Work

The manufacturer requests that the FAA give credit for the inspection and corrective actions accomplished prior to the effective date of this AD in accordance with the original issue of Airbus Service Bulletin A320-56-1007, dated January 21, 2000.

The FAA concurs. The Direction Générale de l'Aviation Civile (DGAC), which is the airworthiness authority for France, has approved this service bulletin for the accomplishment of the inspection and corrective actions. The FAA finds that the procedures in the original issue of the service bulletin are identical to those in Revision 01 of Airbus Service Bulletin A320-56-1007, dated February 9, 2001 (which is listed as the appropriate source of service information for accomplishment of the actions in this AD). Therefore, we have added a new Note 3 in this final rule to give credit to operators that may have accomplished the required actions prior to the effective date of this AD in accordance with the original issue of the service bulletin. We have renumbered the succeeding notes accordingly.

Conclusion

After careful review of the available data, including the comment noted above, the FAA has determined that air safety and the public interest require the adoption of the rule with the change described previously. The FAA has determined that this change will neither increase the economic burden on any operator nor increase the scope of the AD.

Cost Impact

The FAA estimates that 77 airplanes of U.S. registry will be affected by this AD, that it will take approximately 1 work hour per airplane to accomplish the required inspection, and that the average labor rate is $60 per work hour. Based on these figures, the cost impact of the AD on U.S. operators is estimated to be $4,620, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-26-20 Airbus Industrie: Amendment 39-12586. Docket 2001-NM-132-AD.

Applicability: Model A319, A320, and A321 series airplanes, certificated in any category, as listed in Airbus Service Bulletin A320-56-1007, Revision 01, dated February 9, 2001.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the inability of the flightcrew to open the left- or right-hand sliding window for evacuation in an emergency, due to a window jamming in the closed position, accomplish the following:

Inspection

(a) Within one year after the effective date of this AD: Perform a one-time detailed visual inspection of the forward and aft lower bogie of the left-hand and right-hand sliding windows to check for the presence of a lock pin, in accordance with Airbus Service Bulletin A320-56-1007, Revision 01, dated February 9, 2001.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(b) If the inspection required by paragraph (a) of this AD reveals that a lock pin is missing: Prior to further flight, perform the action required by either paragraph (b)(1) or (b)(2) of this AD.

(1) Install a new bogie equipped with a lock pin, in accordance with paragraph C.(1) of the Accomplishment Instructions of Airbus Service Bulletin A320-56-1007, Revision 01, dated February 9, 2001, or

(2) Perform a temporary repair in accordance with paragraph C.(2) of the Accomplishment Instructions of Airbus Service Bulletin A320-56-1007, Revision 01, dated February 9, 2001. Within 500 flight hours of the temporary repair, install a new bogie equipped with a lock pin, in accordance with paragraph C.(1) of the Accomplishment Instructions of the service bulletin.

Note 3: Inspection and corrective actions accomplished prior to the effective date of this AD in accordance with Airbus Service Bulletin A320-56-1007, dated January 21, 2000, is considered acceptable for compliance with the requirements of this AD.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Airbus Service Bulletin A320-56-1007, Revision 01, including Appendix 01, dated February 9, 2001. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 2000-518-157(B), dated December 13, 2000.

Effective Date

(f) This amendment becomes effective on February 8, 2002.

Issued in Renton, Washington, on December 26, 2001.
Ali Bahrami,
Acting Manager, Transport Airplane Directorate, Aircraft Certification Service.

[FR Doc. 02-9 Filed 1-3-02; 8:45 am]

BILLING CODE 4910-13-P